ENVIRONMENTAL PROTECTION AGENCY

[FRL-9092-4]

Proposal Not To Reissue NPDES General Permit for Egg Production Operations in New Mexico, Oklahoma, and on Indian Lands in New Mexico and Oklahoma (NMG800000 and OKG800000)

AGENCY: Environmental Protection Agency (EPA).

ACTION: Notice of Proposal not to reissue NPDES General Permit.

SUMMARY: EPA Region 6 is providing notice that the Agency does not intend to reissue the National Pollutant Discharge Elimination System (NPDES) General Permit for Egg Production Operations (EPOs) in New Mexico and Oklahoma (NMG800000 and OKG800000) which was issued on July 18, 2002 (67 FR 47362). The permit expired on August 17, 2007 and was never reissued. Part I.G of the permit stipulates that the permit be administratively continued until the permit is reissued or EPA publishes a determination not to reissue the permit. With this notice, EPA provides notice of its determination not to reissue the permit. No facilities applied for or were granted coverage under this permit. At this time, any facility eligible for coverage under this general permit that is seeking NPDES permit coverage should submit an application for an individual permit.

FOR FURTHER INFORMATION CONTACT: Scott Stine, NPDES Permits and TMDL Branch (6WQ-PP), Environmental Protection Agency, 1445 Ross Ave., Suite 1200, Dallas, TX 75202; telephone number: (214) 665-7182; fax number: (214) 665-2191; e-mail address: stine.scott@epa.gov.

SUPPLEMENTARY INFORMATION: At the time of permit issuance, the United Egg Producers (UEP), a farmer cooperative that represents egg producers nationwide, was in an XL project agreement with EPA to allow eligible facilities to obtain permit coverage under a general permit. Project XL was a national pilot program that allowed state and local governments, businesses and federal facilities to develop with EPA more cost-effective ways of achieving environmental and public health protection. With this notice not to reissue the general permit, EPA is closing out this XL project as it is no longer active.

Authority: Clean Water Act, 33 U.S.C. 1251 et seq.

Dated: December 3, 2009.
Miguel I. Flores,
Director, Water Quality Protection Division, EPA Region 6.

[FR Doc. E9-30841 Filed 12-28-09; 8:45 am]

BILLING CODE 6560-50-P